DEPARTMENT OF TRANSPORTATION

Federal Aviation Administration

14 CFR Part 71

[Docket No. FAA-2025-0668; Airspace Docket No. 24-ASO-34]

RIN 2120-AA66

Establishment of United States Area Navigation (RNAV) Routes Q-190 and T-497, and Amendment of Domestic Very High Frequency Omnidirectional Range (VOR) Federal Airways V-1, V-70, and V-194; Eastern United States

AGENCY: Federal Aviation Administration (FAA), DOT.

ACTION: Final rule.

SUMMARY: This action establishes United States Area Navigation (RNAV) Routes Q-190 and T-497, and amends domestic Very High Frequency Omnidirectional Range (VOR) Federal Airways V-1, V-70, and V-194, in the eastern United States. The FAA is taking this action due to the planned decommissioning of the Cofield, NC (CVI), VOR/Tactical Air Navigation (VORTAC). This action is in support of the FAA's VOR Minimum Operational Network (MON) Program.

DATES: Effective date 0901 UTC, March 19, 2026. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it amends the route structure to maintain the efficient flow of air traffic within the National Airspace System.

History

The FAA published a NPRM for Docket No. FAA 2025-0668 in the Federal Register (87 FR 20136; May 12, 2025), proposing to establish RNAV Routes Q-190 and T-497; and amend domestic VOR Federal Airways V-1, V-70, and V-194, in the eastern United States. Interested parties were invited to participate in this rulemaking effort by submitting written comments on the proposal to the FAA. One comment was received, which stated that the geographic coordinates for the Elizabeth City, NC (ECG), VOR/Distance Measuring Equipment (VOR/DME) listed in the route description for RNAV Route T-497 were incorrect. Upon review, the FAA discovered that all geographic coordinates listed in the route description of RNAV Route T-497 were erroneous. This final rule corrects these errors by correcting the geographic coordinates to match the FAA's National Airspace System Resource (NASR) database information for each point. Additionally, the FAA verified that the route points that define RNAV Route T-497 were listed correctly as intended.

Differences From the NPRM

Subsequent to publication of the NPRM, on August 7, 2025, the FAGED, VA, Fix was changed to the FAGED, VA, waypoint (WP) due to the route point no longer being defined by ground-based Navigational Aid (NAVAID) radials. This final rule refers to the FAGED, VA, route point as a WP. This change is ministerial in nature, and does not alter airspace boundaries or impose additional requirements on regulated parties. Accordingly, the FAA finds good cause that recirculating the proposal for notice and comment is unnecessary.

Additionally, subsequent to publication of the NPRM, the FAA published a final rule for Docket No. FAA-2024-2512 in the Federal Register (90 FR 21408; May 20, 2025), amending VOR Federal Airway V-1. That final rule amended VOR Federal Airway V-1 by removing the airway segments between the Norfolk, VA (ORF), VORTAC and the Waterloo, DE (ATR), VOR/DME due to the scheduled decommissioning of the Salisbury, MD (SBY), VORTAC. That final rule also added language to the route description that the airway excludes restricted area R-5002F, as it is adjacent to VOR Federal Airway V-1, and removed language that the airway excludes restricted area R-4006, as it will no longer be adjacent to VOR Federal Airway V-1 as amended. Changes made by that airway amendment, effective August 7, 2025, are incorporated into this action. They do not result in material differences from the original proposal, nor do they impose additional requirements on users of the airway. Accordingly, the FAA finds good cause that recirculating the proposal for notice and comment is unnecessary.

Incorporation by Reference

United States Area Navigation Routes are published in paragraphs 2006 and 6011, and Domestic VOR Federal Airways are published in paragraph 6010(a), of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by establishing RNAV Routes Q-190 and T-497; and amending domestic VOR Federal Airways V-1, V-70, and V-194, to support the planned decommissioning of the Cofield, NC (CVI), VORTAC. This action is in support of the FAA's VOR MON Program.

Q-190: Q-190 is a new RNAV route that extends between the Carleton, MI (CRL), VOR/DME and the PONCT, NY, WP. The route overlays Jet Route J-190 between the Carleton VOR/DME and the PONCT WP. This new route provides RNAV connectivity between the Detroit, MI, area and the Albany, NY, area.

V-1: Prior to this final rule, V-1 extended between the Craig, FL (CRG), VORTAC and the Norfolk, VA (ORF), VORTAC; and between the Waterloo, DE (ATR), VOR/DME and the Boston, MA (BOS), VOR/DME. The portions within R-5002A, R-5002C, R-5002D, and R-5002F are excluded during their times of designation. The FAA removes the airway segments between the Kinston, NC (ISO), VORTAC and the Norfolk VORTAC due to the scheduled decommissioning of the Cofield, NC (CVI), VORTAC. As amended, the airway extends between the Craig VORTAC and the Kinston VORTAC; and between the Waterloo VOR/DME and the Boston VOR/DME. The portions within R-5002A, R-5002C, R-5002D, and R-5002F are excluded during their times of designation.

V-70: Prior to this final rule, V-70 extended between Monterrey, Mexico, and the Picayune, MS (PCU), VOR/DME; between the Monroeville, AL (MVC), VORTAC and the Allendale, SC (ALD), VOR; and between the Grand Strand, SC (CRE), VORTAC and the Cofield, NC (CVI), VORTAC. The airspace within Mexico is excluded. The FAA removes the airway segments between the Kinston, NC (ISO), VORTAC and the Cofield VORTAC due to the scheduled decommissioning of the Cofield VORTAC. As amended, the airway extends between Monterrey, Mexico, and the Picayune VOR/DME; between the Monroeville VORTAC and the Allendale VOR; and between the Grand Strand VORTAC and the Kinston VORTAC. The airspace within Mexico remains excluded.

V-194: Prior to this final rule, V-194 extended between the Cedar Creek, TX (CQY), VORTAC and the College Station, TX (CLL), VORTAC; between the Sabine Pass, TX (SBI), VOR/DME and the Meridian, MS (MEI), VORTAC; and between the Liberty, NC (LIB), VORTAC and the intersection of the Cofield, NC (CVI), VORTAC 077° and the Norfolk, VA (ORF), VORTAC 209° radials (SUNNS Fix). The FAA removes the airway segments between the Tar River, NC (TYI), VORTAC and the SUNNS Fix due to the scheduled decommissioning of the Cofield VORTAC. As amended, the airway extends between the Cedar Creek VORTAC and the College Station VORTAC; between the Sabine Pass VOR/DME and the Meridian VORTAC; and between the Liberty VORTAC and the Tar River VORTAC.

T-497: T-497 is a new RNAV route that extends between the Elizabeth City, NC (ECG), VOR/DME and the FAGED, VA, WP. The route overlays VOR Federal Airway V-286 between the OUTLA, VA, WP and the FAGED, VA, WP. The new route provides RNAV connectivity between the Elizabeth City, NC, area and the Warsaw, VA, area.

The full proposed descriptions of the above routes are set forth below in the proposed text amendments to part 71. The NAVAID radials listed in the Air Traffic Service (ATS) route description regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action establishing RNAV Routes Q-190 and T-497, and amending domestic VOR Federal Airways V-1, V-70, and V-194 in the eastern United States qualifies for categorical exclusion under the National Environmental Policy Act (42 U.S.C. 4321, et seq.) and in accordance with FAA Order 1050.1G, FAA National Environmental Policy Act Implementing Procedures, paragraph B-2.5(a), which categorically excludes from further environmental impact review rulemaking actions that designate or modify classes of airspace areas, airways, routes, and reporting points (see 14 CFR part 71, Designation of Class A, B, C, D, and E Airspace Areas; Air Traffic Service Routes; and Reporting Points); and paragraph B-2.5(b), which categorically excludes from further environmental impact review “Actions regarding establishment of jet routes and Federal airways (see 14 CFR 71.15, Designation of jet routes and VOR Federal airways). . .”. As such, this action is not expected to result in any potentially significant environmental impacts. In accordance with the FAA's NEPA implementation policy and procedures regarding extraordinary circumstances, the FAA has reviewed this action for factors and circumstances in which a normally categorically excluded action may have a significant environmental impact requiring further analysis. The FAA has determined that no extraordinary circumstances exist that warrant preparation of an environmental assessment or environmental impact statement.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11K, Airspace Designations and Reporting Points, dated August 4, 2025, and effective September 15, 2025, is amended as follows:

Paragraph 2006 United States Area Navigation Routes.

* * * * *

Q-190 Carleton, MI (CRL) to PONCT, NY [New]
Carleton, MI (CRL) | VOR/DME | (Lat. 42°02′52.90″ N, long. 083°27′27.26″ W)
WIGGZ, PA | WP | (Lat. 41°30′51.00″ N, long. 077°58′52.00″ W)
RAHKS, NY | WP | (Lat. 42°27′59.28″ N, long. 075°14′21.68″ W)
PONCT, NY | WP | (Lat. 42°44′48.83″ N, long. 073°48′48.07″ W)

* * * * *

Paragraph 6010(a) Domestic VOR Federal Airways.

* * * * *

V-1 [Amended]

From Craig, FL; INT Craig 020° and Charleston, SC, 214° radials; Charleston; Grand Strand, SC; INT Grand Strand 031° and Kinston, NC, 214° radials; to Kinston. From Waterloo, DE; INT Waterloo 024° and Coyle, NJ, 216° radials; Coyle; INT Coyle 036° and Kennedy, NY, 209° radials; Kennedy; Deer Park, NY; Madison, CT; Hartford, CT; INT Hartford 040° and Boston, MA, 252° radials; to Boston, MA; excluding the airspace below 2,700 feet MSL outside the United States between STARY INT and Charleston, SC. The portions within R-5002A, R-5002C, R-5002D and R-5002F are excluded during their times of designation.

* * * * *

V-70 [Amended]

From Monterrey, Mexico; Brownsville, TX; INT Brownsville 338° and Corpus Christi, TX, 193° radials; 34 miles standard width, 37 miles 7 miles wide (4 miles E and 3 miles W of centerline), Corpus Christi; INT Corpus Christi 054° and Palacios, TX, 226° radials; Palacios; Scholes, TX; Sabine Pass, TX; Lake Charles, LA; Lafayette, LA; Fighting Tiger, LA; to Picayune, MS. From Monroeville, AL; INT Monroeville 073° and Eufaula, AL, 258° radials; Eufaula; Vienna, GA; to Allendale, SC. From Grand Strand, SC; Wilmington, NC; to Kinston, NC. The airspace within Mexico is excluded.

* * * * *

V-194 [Amended]

From Cedar Creek, TX; to College Station, TX. From Sabine Pass, TX; Lafayette, LA; Fighting Tiger, LA; McComb, MS; INT McComb 055° and Meridian, MS, 221° radials; to Meridian. From Liberty, NC; Raleigh-Durham, NC; to Tar River, NC.

* * * * *

Paragraph 6011 United States Area Navigation Routes.

* * * * *

T-497 Elizabeth City, NC (ECG) to FAGED, VA [New]
Elizabeth City, NC (ECG) | VOR/DME | (Lat. 36°15′27.26″ N, long. 076°10′32.15″ W)
Oceana, VA (NTU) | TACAN | (Lat. 36°49′27.20″ N, long. 076°02′13.37″ W)
SKOUT, VA | FIX | (Lat. 36°55′55.13″ N, long. 075°51′07.39″ W)
TURET, VA | FIX | (Lat. 37°00′10.90″ N, long. 075°47′08.35″ W)
FAAFO, VA | WP | (Lat. 37°03′08.52″ N, long. 075°44′12.51″ W)
BAYSO, VA | WP | (Lat. 37°19′17.65″ N, long. 075°49′40.37″ W)
LNSKY, VA | FIX | (Lat. 37°20′13.20″ N, long. 075°55′30.29″ W)
OUTLA, VA | WP | (Lat. 37°20′45.48″ N, long. 075°59′54.08″ W)
FAGED, VA | WP | (Lat. 37°51′07.69″ N, long. 076°40′55.91″ W)

* * * * *

Issued in Washington, DC, on December 30, 2025.
Glenn L. Sigley,
Acting Manager, Rules and Regulations Group.

[FR Doc. 2025-24218 Filed 12-31-25; 8:45 am]

BILLING CODE 4910-13-P